DEPARTMENT OF COMMERCE

International Trade Administration

[C-489-817]

Oil Country Tubular Goods From the Republic of Turkey: Preliminary Results of Countervailing Duty Administrative Review, Rescission in Part, and Intent To Rescind in Part; 2018

AGENCY: Enforcement and Compliance, International Trade Administration, Department of Commerce.

SUMMARY: The Department of Commerce (Commerce) preliminarily determines that certain producers/exporters of oil country tubular goods (OCTG) from the Republic of Turkey (Turkey) received countervailable subsidies during the period of review (POR) January 1, 2018, through December 31, 2018, that were de minimis. In addition, we are rescinding the review with respect to Cayirova Boru Sanayi ve Ticaret A.S. (Cayirova) and its affiliated trading company, Yucel Boru Ithalat-Ihracat ve Pazarlama A.S. Uic (Yucel) and announcing our preliminary intent to rescind this review with respect to five other companies. Interested parties are invited to comment on these preliminary results.

DATES: Applicable January 26, 2021.

FOR FURTHER INFORMATION CONTACT: Dusten Hom, AD/CVD Operations, Office I, Enforcement and Compliance, International Trade Administration, U.S. Department of Commerce, 1401 Constitution Avenue NW, Washington, DC 20230; telephone: (202) 482-5075.

SUPPLEMENTARY INFORMATION:

Background

On November 12, 2019, Commerce published a notice of initiation of an administrative review for the countervailing duty (CVD) order ¹ on OCTG from Turkey for the period January 1, 2018, through December 31, 2018.² On April 24, 2020, Commerce exercised its discretion to toll all deadlines in administrative reviews by 50 days.³ On June 25, 2020, Commerce extended the deadline for the preliminary results by 120 days.⁴ On July 21, 2020, Commerce tolled all deadlines in preliminary and final results of administrative reviews by an additional 60 days,⁵ thereby extending the deadline for the preliminary results of this administrative review to January 19, 2021.

¹ See Certain Oil Country Tubular Goods from India and the Republic of Turkey: Countervailing Duty Orders and Amended Affirmative Final Countervailing Duty Determination for India, 79 FR 53688 (September 10, 2014) (Order).

² See Initiation of Antidumping and Countervailing Duty Administrative Reviews, 84 FR 61011 (November 12, 2019).

³ See Memorandum, “Tolling of Deadlines for Antidumping and Countervailing Duty Administrative Reviews in Response to Operational Adjustments Due to COVID-19 Government,” dated April 24, 2020.

⁴ See Memorandum, “Administrative Review of the Countervailing Duty Order on Certain Oil Country Tubular Goods from the Republic of Turkey: Extension of Deadline for Preliminary Results,” dated June 25, 2020.

⁵ See Memorandum, “Tolling of Deadlines for Antidumping and Countervailing Duty Administrative Reviews,” dated July 21, 2020.

For a complete description of the events that followed the initiation of this review, see the Preliminary Decision Memorandum, which is hereby adopted by this notice.⁶ A list of topics discussed in the Preliminary Decision Memorandum is included as the appendix to this notice. The Preliminary Decision Memorandum is a public document and is on file electronically via Enforcement and Compliance's Antidumping and Countervailing Duty Centralized Electronic Service System (ACCESS). ACCESS is available to registered users at http://access.trade.gov. In addition, a complete version of the Preliminary Decision Memorandum can be accessed directly at http://enforcement.trade.gov/frn/. The signed and electronic versions of the Preliminary Decision Memorandum are identical in content.

⁶ See Memorandum, “Decision Memorandum for the Preliminary Results of 2018 Countervailing Duty Administrative Review: Oil Country Tubular Goods from the Republic of Turkey,” dated concurrently with this notice (Preliminary Decision Memorandum).

Scope of the Order

The merchandise covered by the Order is certain OCTG from Turkey. For a complete description of the scope of the Order, see the Preliminary Decision Memorandum.⁷

⁷ See Preliminary Decision Memorandum at 4-5.

Methodology

We are conducting this administrative review in accordance with section 751(a)(1)(A) of the Tariff Act of 1930, as amended (the Act). For each of the subsidy programs found countervailable, we preliminarily find that there is a subsidy, i.e., a financial contribution by an “authority” that gives rise to a benefit to the recipient, and that the subsidy is specific.⁸ For a full description of the methodology underlying our conclusions, see the Preliminary Decision Memorandum.

⁸ See sections 771(5)(B) and (D) of the Act regarding financial contribution; section 771(5)(E) of the Act regarding benefit; and section 771(5A) of the Act regarding specificity.

Partial Rescission of Administrative Review

On October 23, 2019, Cayirova and its affiliated trading company, Yucel, notified Commerce that they had no sales, shipments, or entries of subject merchandise into the United States during the POR, and requested Commerce to rescind the reviews of these companies.⁹ In the respondent selection memorandum, we stated that this notification is consistent with CBP data and that Commerce will rescind the administrative review of Yucel and Cayirova.¹⁰ We received no comments with respect to our intent to rescind on these two companies. Because no evidence on the record contradicts these certifications, we are rescinding the review of the Order with respect to Yucel and Cayirova.

⁹ See Cayirova's and Yucel's Letter, “OCTG from Turkey; Yucel No Shipment Letter,” dated October 23, 2019.

¹⁰ See Memorandum, “Countervailing Duty Administrative Review of Oil Country Tubular Foods from the Republic of Turkey: Respondent Selection”, dated January 7, 2020.

Intent To Rescind Administrative Review, in Part

It is Commerce's practice to rescind an administrative review of a countervailing duty order, pursuant to 19 CFR 351.213(d)(3), when there are no reviewable entries of subject merchandise during the POR for which liquidation is suspended.¹¹ Normally, upon completion of an administrative review, the suspended entries are liquidated at the countervailing duty assessment rate calculated for the review period.¹² Therefore, for an administrative review of a company to be conducted, there must be a reviewable, suspended entry that Commerce can instruct CBP to liquidate at the calculated countervailing duty assessment rate calculated for the review period.¹³

¹¹ See, e.g., Lightweight Thermal Paper from the People's Republic of China: Notice of Rescission of Countervailing Duty Administrative Review; 2015, 82 FR 14349 (March 20, 2017); see also Circular Welded Carbon Quality Steel Pipe from the People's Republic of China: Rescission of Countervailing Duty Administrative Review; 2017, 84 FR 14650 (April 11, 2019).

¹² See 19 CFR 351.212(b)(2).

¹³ See 19 CFR 351.213(d)(3).

According to the CBP import data, except for the mandatory respondent and its cross-owned companies, the companies subject to this review did not have reviewable entries of subject merchandise during the POR for which liquidation is suspended. Accordingly, in the absence of reviewable, suspended entries of subject merchandise during the POR, we are rescinding the review with respect to Yucel and Cayirova as explained above, and we intend to rescind this administrative review with respect to five additional companies, in accordance with 19 CFR 351.213(d)(3).¹⁴

¹⁴ The five companies are: Bakir Grup Makine Imalat Bakim Montaj Demontaj Sanayi ve Ticaret Ltd. Sti.; Hydra Insaat Sanayi ve Ticaret Anonim Sirketi; Kalibre Boru Sanayi ve Ticaret; NETBORU San. ve Dis. Tic. Koll. Sti.; and Yilmaz Pipo.

Preliminary Results of the Review

We preliminarily determine the following net countervailable subsidy rate for the mandatory respondent, Borusan Mannesmann Boru Sanayi ve Ticaret A.S., for the period January 1, 2018, through December 31, 2018:

Company | Subsidy rate (percent ad valorem)
Borusan Mannesmann Boru Sanayi ve Ticaret A.S., Borusan Istikbal Ticaret, Borusan Lojistik Dag. Deg. Tas Ve, Borusan Mannesmann Boru Yatirim Holding A.Ş., and Borusan Holding A.Ş.¹⁵ | * 0.38
* de minimis.

Assessment Rates

¹⁵ Commerce has determined that Borusan Mannesmann Boru Sanayi ve Ticaret A.S.; Borusan Istikbal Ticaret.; Borusan Lojistik Dag. Deg. Tas Ve; Borusan Mannesmann Boru Yatirim Holding A.Ş.; and Borusan Holding A.Ş. are cross-owned. See Preliminary Decision Memorandum.

Consistent with section 751(a)(1) of the Act and 19 CFR 351.212(b)(2), upon issuance of the final results, Commerce will determine, and U.S. Customs and Border Protection (CBP) shall assess, countervailing duties on all appropriate entries covered by this review. If Borusan continues to have a de minimis rate in the final results, Commerce intends to instruct CBP to liquidate shipments of subject merchandise entered, or withdrawn from warehouse, for consumption on or after January 1, 2018 through December 31, 2018, without regard to countervailing duties. Consistent with its recent notice,¹⁶ Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

¹⁶ See Notice of Discontinuation of Policy to Issue Liquidation Instructions After 15 Days in Applicable Antidumping and Countervailing Duty Administrative Proceedings, 86 FR 3995 (January 15, 2021).

For the companies for which this review is rescinded, Commerce will instruct CBP to assess countervailing duties on all appropriate entries at a rate equal to the cash deposit of estimated countervailing duties required at the time of entry, or withdrawal from warehouse, for consumption, during the period January 1, 2018 through December 31, 2018, in accordance with 19 CFR 351.212(c)(1)(i).

Cash Deposit Requirements

In accordance with section 751(a)(2)(C) of the Act, Commerce also intends to instruct CBP to collect cash deposits of estimated countervailing duties at the rate determined in the final results. If the rate calculated for Borusan in the final results remains de minimis, no cash deposit will be required on shipments of the subject merchandise entered or withdrawn from warehouse, for consumption on or after the date of publication of the final results of this review. For all non-reviewed firms, CBP will continue to collect cash deposits at the most recent company-specific or all-others rate applicable to the company, as appropriate. These cash deposit requirements, when imposed, shall remain in effect until further notice.

Disclosure and Public Comment

We will disclose to parties in this review the calculations performed in reaching the preliminary results within five days of publication of these preliminary results.¹⁷ Interested parties may submit written comments (case briefs) on the preliminary results no later than 30 days from the date of publication of this Federal Register notice, and rebuttal comments (rebuttal briefs) within seven days after the time limit for filing case briefs.¹⁸ Pursuant to 19 CFR 351.309(d)(2), rebuttal briefs must be limited to issues raised in the case briefs. Parties who submit arguments are requested to submit with the argument: (1) A statement of the issue; (2) a brief summary of the argument; and (3) a table of authorities.¹⁹ All briefs must be filed electronically using ACCESS.

¹⁷ See 19 CFR 351.224(b).

¹⁸ See 19 CFR 351.309(c)(1)(ii); 351.309(d)(1); and 19 CFR 351.303 (for general filing requirements).

¹⁹ See 19 CFR 351.309(c)(2) and (d)(2).

Pursuant to 19 CFR 351.310(c), interested parties who wish to request a hearing must submit a written request to the Assistant Secretary for Enforcement and Compliance, filed electronically via ACCESS by 5 p.m. Eastern Time within 30 days after the date of publication of this notice.²⁰ Hearing requests should contain: (1) The party's name, address, and telephone number; (2) the number of participants; and (3) a list of the issues to be discussed. Issues addressed at the hearing will be limited to those raised in the briefs. If a request for a hearing is made, parties will be notified of the date and time for the hearing to be determined.²¹

²⁰ See 19 CFR 351.310(c).

²¹ See 19 CFR 351.310(d).

Commerce intends to issue the final results of this administrative review, including the results of our analysis of the issues raised by the parties in their comments, no later than 120 days after the date of publication of this notice, pursuant to section 751(a)(3)(A) of the Act and 19 CFR 351.213(h)(1), unless this deadline is extended.

Notification to Interested Parties

These preliminary results and notice are issued and published in accordance with sections 751(a)(1) and 777(i)(1) of the Act and 19 CFR 351.221(b)(4).

Dated: January 19, 2021.
Christian Marsh,
Deputy Assistant Secretary for Enforcement and Compliance.

Appendix—List of Topics Discussed in the Preliminary Decision Memorandum

I. Summary

II. Background

III. Scope of the Order

IV. Partial Rescission of Review

V. Intent to Rescind Administrative Review in Part

VI. Subsidies Valuation Information

VII. Benchmark Interest Rates and Discount Rates

VIII. Analysis of Programs

IX. Recommendation

[FR Doc. 2021-01674 Filed 1-25-21; 8:45 am]

BILLING CODE P